DEPARTMENT OF LABOR

Mine Safety and Health Administration

Notice of Affirmative Decisions on Petitions for Modification Granted in Whole or in Part

AGENCY: Mine Safety and Health Administration (MSHA), Labor.

SUMMARY: The Mine Safety and Health Administration (MSHA) enforces mine operator compliance with mandatory safety and health standards that protect miners and improve safety and health conditions in U.S. Mines. This Federal Register Notice (FR Notice) notifies the public that it has investigated and issued a final decision on certain mine operator petitions to modify a safety standard.

ADDRESSES: Copies of the final decisions are posted on MSHA's Web Site at http://www.msha.gov/indexes/petition.htm. The public may inspect the petitions and final decisions during normal business hours in MSHA's Office of Standards, Regulations, and Variances, 1100 Wilson Boulevard, Room 2349, Arlington, Virginia 22209. All visitors must first stop at the receptionist desk on the 21st Floor to sign-in.

FOR FURTHER INFORMATION CONTACT: Edward Sexauer, Chief, Regulatory Development Division at 202-693-9444 (Voice), sexauer.edward@dol.gov (e-mail), or 202-693-9441 (Telefax), or Barbara Barron at 202-693-9447 (Voice), barron.barbara@dol.gov (e-mail), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2005-076-C.

FR Notice: 70 FR 75221 (December 19, 2005).

Petitioner: Blue Mountain Energy, Inc., 3607 County Road #65, Rangely, Colorado 81648.

Mine: Deserado Mine, MSHA I.D. No. 05-03505.

Regulation Affected: 30 CFR 75.312(c) (Main mine fan examinations and records).

• Docket Number: M-2005-086-C.

FR Notice: 71 FR 3890 (January 24, 2006).

Petitioner: Bear Gap Coal Company, Box 64 Kushwa Road, Spring Glen, Pennsylvania.

Mine: Bear Gap Coal Company No. 6 Slope Mine, MSHA I.D. No. 36-09296.

Regulation Affected: 30 CFR 49.2(b) (Availability of mine rescue teams).

• Docket Number: M-2006-001-C.

FR Notice: 71 FR 3890 (January 24, 2006).

Petitioner: Oxbow Mining, LLC, P.O. Box 535, 3737 Highway 133, Somerset, Colorado 81434.

Mine: Elk Creek Mine, MSHA I.D. No. 05-04674.

Regulation Affected: 30 CFR 75.1726(a) (Performing work from a raised position; safeguards.

• Docket Number: M-2006-010-C.

FR Notice: 71 FR 28714 (May 17, 2006).

Petitioner: Six M Coal Company, 647 South Street, Lykens, Pennsylvania 17048.

Mine: No. 1 Slope Mine, MSHA I.D. No. 36-09138.

Regulation Affected: 30 CFR 49.2(b) (Availability of mine rescue teams).

• Docket Number: M-2006-011-C.

FR Notice: 71 FR 28714 (May 17, 2006).

Petitioner: Six M Coal Company, 647 South Street, Lykens, Pennsylvania 17048.

Mine: No. 1 Slope Mine, MSHA I.D. No. 36-09138.

Regulation Affected: 30 CFR 75.1202-1(a) (Temporary notations, revisions, and supplements).

• Docket Number: M-2006-037-C.

FR Notice: 71 FR 56178 (September 26, 2006).

Petitioner: Ohio County Coal Company, 19050 Highway 1078 South, Henderson, Kentucky 42420.

Mine: Freedom Mine, MSHA I.D. No. 15-17587.

Regulation Affected: 30 CFR 75.1101-1(b) (Deluge-type water spray systems).

• Docket Number: M-2006-041-C.

FR Notice: 71 FR 56179 (September 26, 2006).

Petitioner: Orchard Coal Company, 214 Vaux Road, Tremont, Pennsylvania 17981.

Mine: Orchard Slope Mine, MSHA I.D. No. 36-08346.

Regulation Affected: 30 CFR 75.360 (Preshift examination at fixed intervals).

• Docket Number: M-2006-085-C.

FR Notice: 72 FR 8204 (February 23, 2007).

Petitioner: Drummond Company, Inc., P.O. Box 10236, Birmingham, Alabama 35202.

Mine: Shoal Creek Mine, MSHA I.D. No. 01-02901.

Regulation Affected: 30 CFR 75.1101-1(b) (Deluge-type water spray systems).

• Docket Number: M-2005-005-M.

FR Notice: 70 FR 48985 (August 22, 2005).

Petitioner: Phelps Dodge Bagdad, Inc., P.O. Box 245, Bagdad, Arizona 86321.

Mine: Phelps Dodge Bagdad, Inc. Mine, MSHA I.D. No. 02-00137.

Regulation Affected: 30 CFR 56-6309(b) (Fuel oil requirements for ANFO).

• Docket Number: M-2005-006-M.

FR Notice: 70 FR 52449 (September 2, 2005).

Petitioner: Chino Mines Company, P.O. Box 7, Hurley, New Mexico 88043.

Mine: Chino Mine, MSHA I.D. No. 29-00708.

Regulation Affected: 30 CFR 56.6309 (Fuel oil requirements for ANFO).

• Docket Number: M-2006-001-M.

FR Notice: 71 FR 13433 (March 15, 2007).

Petitioner: FMC Corporation, Box 872, Green River, Wyoming 82935.

Mine: FMC Westvaco Mine, MSHA I.D. No. 48-00152.

Regulation Affected: 30 CFR 57.22305 (Approved equipment (III mines)).

• Docket Number: M-2006-002-M.

FR Notice: 71 FR 17145 (April 5, 2006).

Petitioner: Phelps Dodge Sierrita, Inc., 6200 W. Duval Mine Road, Green Valley, Arizona 85614.

Mine: Phelps Dodge Sierrita, Inc. Mine, MSHA I.D. No. 02-001447.

Regulation Affected: 30 CFR 5609 (Fuel oil requirements for ANFO).

• Docket Number: M-2006-005-M.

FR Notice: 71 FR 56175 (September 26, 2006).

Petitioner: Round Mountain Gold Corporation, P.O. Box 480, Round Mountain, Nevada 89045.

Mine: Smoky Valley Common Operation, MSHA I.D. No. 26-00594).

Regulation Affected: 30 CFR 56-6309(b) (Fuel oil requirements for ANFO).

• Docket Number: M-2006-016-M.

FR Notice: 72 FR 8204 (February 23, 2007).

Petitioner: Phelps Dodge Morenci, Inc., 4521 U.S. Highway 191, Morenci, Arizona 85540.

Mine: Morenci Mine, MSHA I.D. No. 02-00024.

Regulation Affected: 30 CFR 56.6309(b) (Fuel oil requirements for ANFO).

Dated: July 20, 2007.
Jack Powasnik,
Acting Deputy Director, Office of Standards, Regulations, and Variances.

[FR Doc. E7-14445 Filed 7-25-07; 8:45 am]

BILLING CODE 4510-43-P